DEPARTMENT OF THE INTERIOR

Bureau of Land Management

[CO-935; COC-39308]

Notice of Proposed Withdrawal; Opportunity for Public Meeting; Colorado

January 31, 2002.

AGENCY: Bureau of Land Management, Interior.

ACTION: Notice.

SUMMARY: The Department of Agriculture, Forest Service, proposes to withdraw approximately 4,380 acres of National Forest System lands for a 10-year period to provide administrative alternatives. This notice closes the lands to location and entry under the mining laws for up to two years. The lands remain open to mineral leasing.

DATES: Comments on this proposed withdrawal must be received on or before May 22, 2002.

ADDRESSES: Comments and meeting requests should be sent to the Colorado State Director, 2850 Youngfield Street, Lakewood, Colorado 80215-7093.

FOR FURTHER INFORMATION CONTACT: Doris E. Chelius at 303-239-3706.

SUPPLEMENTARY INFORMATION: On January 30, 2002, the Department of Agriculture, Forest Service, filed an application to withdraw the following described National Forest Service lands from location and entry under the U. S. mining laws (30 U.S.C. Ch. 2) subject to valid existing rights, for 10 years:

Sixth Principal Meridian

White River National Forest

T. 5 S., R. 76 W., sec. 20, lots 2, 3, 4, 15, 24, 25, 26, 27, 28, 29, 32, 33, 34, 35, 43, 47, 48, 49, 50, and 5l;

Sec. 21, S½N½ and S½;

Sec. 22, SW¼;

Sec. 27, W½ and W½E½;

Sec. 28, all;

Sec. 29, E½ and E½E½W½;

Sec. 32, E½, E½NE¼NW¼, SE¼NW¼, and E½SW¼;

Sec. 33, all;

Sec. 34, NW¼.

T. 5 S., R. 77 W.,

Sec. 23, lots 11, 13, and 15;

Sec. 24, lot 11 and W½SW¼.

T. 6 S., R 76 W.,

Sec. 5, lots 1 thru 12, inclusive;

Sec. 6, lots 1, 8, and 9, and E½SE¼.

The areas described aggregate approximately 4,380 acres of National Forest System lands in Summit County. This order excludes any privately owned lands within the boundaries of the described areas.

For a period of 90 days from the date of publication of this notice, all persons who wish to submit comments, suggestions, or objections in connection with the proposed withdrawal, or to request a public meeting, may present their views in writing to the Colorado State Director at the address shown above.

Notice is hereby given that an opportunity for a public meeting is afforded in connection with this proposed withdrawal. Any interested persons who desire a public meeting for the purpose of being heard on this proposed action should submit a written request to the Colorado State Director within 90 days from the date of publication of this notice. If the authorized officer determines that a public meeting will be held, a notice of the time and place will be published in the Federal Register at least 30 days prior to the scheduled date of the meeting.

This withdrawal will be processed in accordance with the regulations set forth in 43 CFR part 2310.

Jenny L. Saunders,
Realty Officer.

[FR Doc. 02-4159 Filed 2-20-02; 8:45 am]

BILLING CODE 3410-11-P